DEPARTMENT OF TRANSPORTATION

Surface Transportation Board

[Docket No. AB-1075X]

Manufacturers Railway Company—Discontinuance Exemption—in St. Louis County, MO

AGENCY: Surface Transportation Board, DOT.

ACTION: Correction to notice of exemption.

On March 24, 2011, Manufacturers Railway Company (MRS) filed with the Surface Transportation Board a petition under 49 U.S.C. 10502 for exemption from the prior approval requirements of 49 U.S.C. 10903 to discontinue service over all tracks and yards located within the area bordered by Cedar Street on the north to Zepp Street on the south; and Mississippi River flood wall on the east to U.S. Interstate 55 on the west, in St. Louis, MO.

On April 13, 2011, notice of the petition for exemption was served and published in the Federal Register (76 FR 20,819). The notice erroneously stated that the lines do not contain any Federally granted rights-of-way. This notice corrects that statement. According to MRS, the lines do contain Federally granted rights-of-way. All other information in the notice is correct.

Board decisions and notices are available on our Web site at http://www.stb.dot.gov.

Decided: April 14, 2011.
By the Board, Rachel D. Campbell, Director, Office of Proceedings.
Jeffrey Herzig,
Clearance Clerk.

[FR Doc. 2011-9528 Filed 4-19-11; 8:45 am]

BILLING CODE 4915-01-P